DEPARTMENT OF COMMERCE

Foreign-Trade Zones Board

[B-56-2014]

Foreign-Trade Zone 49—Newark/Elizabeth, New Jersey; Application for Reorganization and Expansion Under Alternative Site Framework

An application has been submitted to the Foreign-Trade Zones (FTZ) Board by The Port Authority of New York and New Jersey, grantee of FTZ 49, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on August 11, 2014.

FTZ 49 was approved by the Board on April 6, 1979 (Board Order 146, 44 FR 22502, 4/16/79) and expanded on May 26, 1983 (Board Order 211, 48 FR 24958, 6/3/83), on October 23, 1987 (Board Order 365, 52 FR 41599, 10/29/87), on April 19, 1990 (Board Order 470, 55 FR 17478, 4/25/90), on December 15, 1999 (Board Order 1067, 64 FR 72462-72643, 12/28/99), on April 14, 2006 (Board Order 1446, 71 FR 23895, 4/25/06), on February 28, 2007 (Board Order 1504, 72 FR 10642-10643, 3/9/07), on July 16, 2009 (Board Order 1634, 74 FR 37688-37689, 7/29/09) and on February 6, 2013 (Board Order 1884, 78 FR 12716, 2/25/13).

The current zone includes the following sites in the Newark/Elizabeth area: Site 1 (total—2,075 acres, sunset 2/28/18)—Port Newark/Elizabeth Port Authority Marine Terminal (2,029 acres), a parcel (23 acres) located at 888 Doremus Avenue, Newark, a parcel (6 acres) located at 580 Division Street, Elizabeth, and a parcel (17 acres) located at 251-259 Kapowski Road, Elizabeth; Site 2 (64 acres, sunset 2/28/18)—Global Terminal and Container Services facility (41 acres) and adjacent Jersey Distribution Services facility (23 acres) Jersey City/Bayonne; Site 3 (124 acres, sunset 2/28/18)—Port Authority Industrial Park, adjacent to the Port Newark/Elizabeth Port Authority Marine Terminal; Site 4 (198 acres, sunset 2/28/18)—Port Authority Auto Marine Terminal (145 acres) and adjacent 53-acre Greenville Industrial Park on Upper New York Bay's Port Jersey Channel in Bayonne and Jersey City; Site 5 (40 acres, sunset 2/28/18)—Newark International Airport jet fuel storage and distribution system in the Cities of Newark and Elizabeth (Essex and Union Counties); Site 6 (407 acres, sunset 2/28/18)—within an industrial park located at 100 Central Avenue, Kearny; Site 13 (546 acres, sunset 2/28/18)—Raritan Center Business Park, 300 Raritan Center, Edison; Temporary Site 14 (2 acres, expires 9/30/15)—National Retail Transportation, Inc., 2700 16th Street, North Bergen; and, Temporary Site 15 (16 acres, expires 1/31/15)—Western Carriers, Inc., 2400 83rd Street and 8501 West Side Avenue, N. Bergen. (Note: Sites 7 through 10 sunsetted on 3/31/14. Sites 11 and 12 sunsetted on 7/31/14.)

The grantee's proposed service area under the ASF would be the County of Hudson, New Jersey, in its entirety, as well as those parts of the Counties of Bergen, Essex, Passaic, Union, Middlesex, Monmouth, Morris and Somerset, New Jersey, which lie within the Port Authority's jurisdiction known as the Port District, as described in the application. If approved, the grantee would be able to serve sites throughout the service area based on companies' needs for FTZ designation. The proposed service area is within and adjacent to the Newark/Elizabeth Customs and Border Protection port of entry.

The applicant is requesting authority to reorganize and expand its existing zone to include existing Sites 1, 2, 3, 4, 6 and 13 as magnet sites and existing Site 5 and temporary Sites 14 and 15 as usage-driven sites. The ASF allows for the possible exemption of one magnet site from the “sunset” time limits that generally apply to sites under the ASF, and the applicant proposes that Site 1 be so exempted. The application would have no impact on FTZ 49's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is October 17, 2014. Rebuttal comments in response to material submitted during the foregoing period may be submitted during the subsequent 15-day period to November 3, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or (202) 482-1346.

Dated: August 12, 2014.
Andrew McGilvray,
Executive Secretary.

[FR Doc. 2014-19541 Filed 8-15-14; 8:45 am]

BILLING CODE 3510-DS-P